DEPARTMENT OF VETERANS AFFAIRS

Veterans Rural Health Advisory Committee; Notice of Establishment

As required by Section 9(a)(2) of the Federal Advisory Committee Act, the Department of Veterans Affairs hereby gives notice of the establishment of the Veterans Rural Health Advisory Committee. The Secretary of Veterans Affairs had determined that establishing the Committee is both necessary and in the public interest.

The Veterans Rural Health Advisory Committee will advise the Secretary of Veterans Affairs on healthcare issues affecting veterans residing in rural areas. The Committee will evaluate current VA rural health program activities and identify existing barriers to rural health services. It will also recommend strategies to improve those services for veterans.

Committee members will be selected by the Secretary. The Committee's membership is expected to include academic experts in rural health care delivery, state and federal government professionals who focus on rural health issues, veterans affairs officials at the state level, and veterans service organization members.

Dated: March 5, 2008.
By Direction of the Secretary.
E. Phillip Riggin,
Committee Management Officer.

[FR Doc. E8-4876 Filed 3-12-08; 8:45 am]

BILLING CODE 8320-01-M